SECURITIES AND EXCHANGE COMMISSION

Sunshine Act Meetings

TIME AND DATE: Notice is hereby given, pursuant to the provisions of the Government in the Sunshine Act, Public Law 94-409, that the Securities and Exchange Commission will hold an Open Meeting on Wednesday, August 10, 2022 at 10:00 a.m. (ET).

PLACE: The meeting will be webcast on the Commission's website at www.sec.gov.

STATUS: The meeting will begin at 10:00 a.m. (ET) and will be open to the public via webcast on the Commission's website at www.sec.gov.

MATTER TO BE CONSIDERED: The Commission will consider whether to propose amendments to Form PF to amend reporting requirements for all filers and large hedge fund advisers.

CONTACT PERSON FOR MORE INFORMATION: For further information and to ascertain what, if any, matters have been added, deleted or postponed, please contact Vanessa A. Countryman from the Office of the Secretary at (202) 551-5400.

(Authority: 5 U.S.C. 552b)

Dated: August 3, 2022.
Vanessa A. Countryman,
Secretary.

[FR Doc. 2022-17013 Filed 8-4-22; 11:15 am]

BILLING CODE 8011-01-P